DEPARTMENT OF COMMERCE

International Trade Administration

[C-570-911]

Circular Welded Carbon Quality Steel Pipe From the People's Republic of China: Rescission of Countervailing Duty Administrative Review; 2015

AGENCY: Enforcement and Compliance, International Trade Administration, Department of Commerce.

SUMMARY: The Department of Commerce is rescinding the administrative review of the countervailing duty order on circular welded carbon quality steel pipe (CWP) from the People's Republic of China (PRC) for the period January 1, 2015, through December 31, 2015, based on the timely withdrawal of the request for review.

DATES: Effective December 21, 2016.

FOR FURTHER INFORMATION CONTACT: Rebecca M. Janz, AD/CVD Operations, Office II, Enforcement and Compliance, International Trade Administration, U.S. Department of Commerce, 1401 Constitution Avenue NW., Washington, DC 20230; telephone: (202) 482-2972.

SUPPLEMENTARY INFORMATION:

Background

On July 5, 2016, the Department published in the Federal Register a notice of opportunity to request an administrative review of the countervailing duty order on CWP from the PRC for the period January 1, 2015, through December 31, 2015.¹ The Department received a timely-filed request from Wheatland Tube Company (the petitioner), in accordance with section 751(a) of the Tariff Act of 1930, as amended (the Act), and 19 CFR 351.213(b), for an administrative review of this countervailing duty order.² Pursuant to this request and in accordance with 19 CFR 351.221(c)(1)(i), on September 12, 2016, the Department published in the Federal Register a notice of initiation with respect to 20 individually-named companies or company groups.³ On December 12, 2016, the petitioner timely withdrew its request for an administrative review.⁴

¹ See Antidumping or Countervailing Duty Order, Finding, or Suspended Investigation; Opportunity to Request Administrative Review, 81 FR 43584 (July 5, 2016).

² See letter from the petitioner, “Circular Welded Carbon Quality Steel Pipe From the People's Republic of China: Request for Administrative Review,” dated July 29, 2016.

³ See Initiation of Antidumping and Countervailing Duty Administrative Reviews, 81 FR 62720 (September 12, 2016).

⁴ See letter from the petitioner, “Circular Welded Carbon Quality Steel Pipe From the People's Republic of China: Withdrawal of Request for Administrative Review,” dated December 12, 2016.

Rescission of Review

Pursuant to 19 CFR 351.213(d)(1), the Department will rescind an administrative review, in whole or in part, if a party that requested a review withdraws the request within 90 days of the date of publication of notice of initiation of the requested review. The petitioner withdrew its request for review by the 90-day deadline. No other parties requested an administrative review of the order. Therefore, in accordance with 19 CFR 351.213(d)(1), we are rescinding the administrative review of the countervailing duty order on CWP from the PRC covering the period January 1, 2015, through December 31, 2015.

Assessment

The Department will instruct U.S. Customs and Border Protection (CBP) to assess countervailing duties on all appropriate entries. Countervailing duties shall be assessed at rates equal to the cash deposit of estimated countervailing duties required at the time of entry, or withdrawal from warehouse, for consumption, in accordance with 19 CFR 351.212(c)(1)(i). The Department intends to issue appropriate assessment instructions to CBP 15 days after the date of publication of this notice in the Federal Register.

This notice is published in accordance with section 751 of the Act and 19 CFR 351.213(d)(4).

Dated: December 15, 2016.
Christian Marsh,
Deputy Assistant Secretary for Antidumping and Countervailing Duty Operations.

[FR Doc. 2016-30727 Filed 12-20-16; 8:45 am]

BILLING CODE 3510-DS-P